DEPARTMENT OF COMMERCE

National Oceanic and Atmospheric Administration

RIN 0648-XV078

Fisheries of the South Atlantic; South Atlantic Fishery Management Council; Public Meeting

AGENCY: National Marine Fisheries Service (NMFS), National Oceanic and Atmospheric Administration (NOAA), Commerce.

ACTION: Notice of a public meeting of the (SSC).

SUMMARY: The South Atlantic Fishery Management Council's (Council) will hold a meeting of its Scientific and Statistical Committee (SSC) in Charleston, SC. See SUPPLEMENTARY INFORMATION.

DATES: The SSC will meet from 1 p.m. to 5:30 p.m. on Tuesday, October 15, 2019; from 8:30 a.m. to 5:30 p.m. on Wednesday, October 16, 2019; and from 8:30 a.m. to 3 p.m. on Thursday, October 17, 2019.

ADDRESSES:

Meeting address: The meeting will be held at the Crowne Plaza, 4831 Tanger Outlet Blvd., North Charleston, SC 29418; phone: (866) 358-6255 or (843) 744-4422; fax: (843) 744-4472.

Council address: South Atlantic Fishery Management Council, 4055 Faber Place Drive, Suite 201, N Charleston, SC 29405.

FOR FURTHER INFORMATION CONTACT: Kim Iverson, Public Information Officer, 4055 Faber Place Drive, Suite 201, North Charleston, SC 29405; phone: (843) 571-4366 or toll free (866) SAFMC-10; fax: (843) 769-4520; email: kim.iverson@safmc.net.

SUPPLEMENTARY INFORMATION: The following agenda items will be addressed by the SSC during the meeting:

1. Review the recommendations of the SSC's Acceptable Biological Catch (ABC) Workgroup regarding ABCs for unassessed stocks, make catch level recommendations for all unassessed stocks, and discuss the use of Monroe County, Florida data in both calculating the ABC and tracking the landings for Dolphin and Wahoo.

2. Updates on Southeast Data, Assessment and Review (SEDAR) projects; and approve the terms of reference, schedule, and identify participants for the SEDAR 71 stock assessment for Gag.

3. Review the draft National Standard 1 Guidelines on Carryovers and Phase-In Provisions and make any recommendations for additions, deletions, or edits to the draft language.

4. Review the draft Modernizing Recreational Fisheries Act—Report to Congress and make any recommendations for additions, deletions, or edits to the draft language.

5. Review a coral habitat distribution model; review the model assumptions and methods for predicting coral habitat distribution and discuss uncertainties; and determine whether this model is best scientific information available and useful for making management decisions.

6. Update on the Southeast Reef Fish Survey results from the 2018 sampling year.

7. Clarify the SSC's intent of adding the Over Fishing Levels (OFL) and ABCs for Blueline Tilefish from the areas north and south of Cape Hatteras to produce a single OFL and ABC for the entire stock in the South Atlantic.

8. Update on the progress of the South Atlantic Ecosystem Model Workgroup and approval of timing moving forward.

9. Review Dolphin Wahoo Amendment 12 addressing Bullet and Frigate Mackerel; provide any comments or recommendations as necessary.

10. Updates and progress reports on ongoing Council amendments and activities; make comments or recommendations on any Council amendments or activities as necessary.

The meeting is open to the public and will also be available via webinar as it occurs. Webinar registration is required. Information regarding webinar registration will be posted to the Council's website at: http://safmc.net/safmc-meetings/scientific-and-statistical-committee-meetings/ as it becomes available. The meeting agenda, briefing book materials, and online comment form will be posted to the Council's website two weeks prior to the meeting. Written comment on SSC agenda topics is to be distributed to the Committee through the Council office, similar to all other briefing materials. Written comment to be considered by the SSC shall be provided to the Council office no later than one week prior to an SSC meeting. For this meeting, the deadline for submission of written comment is 12 p.m., Tuesday, October 8, 2019.

Multiple opportunities for comment on agenda items will be provided during SSC meetings. Open comment periods will be provided at the start of the meeting and near the conclusion. Those interested in providing comment should indicate such in the manner requested by the Chair, who will then recognize individuals to provide comment. Additional opportunities for comment on specific agenda items will be provided, as each item is discussed, between initial presentations and SSC discussion. Those interested in providing comment should indicate such in the manner requested by the Chair, who will then recognize individuals to provide comment. All comments are part of the record of the meeting.

Although non-emergency issues not contained in the meeting agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency

Special Accommodations

This meeting is accessible to people with disabilities. Requests for auxiliary aids should be directed to the SAFMC office (see ADDRESSES) at least 5 business days prior to the meeting.

Note: The times and sequence specified in this agenda are subject to change.

Authority: 16 U.S.C. 1801 et seq.

Dated: September 17, 2019.
Rey Israel Marquez,
Acting Deputy Director, Office of Sustainable Fisheries, National Marine Fisheries Service.

[FR Doc. 2019-20405 Filed 9-19-19; 8:45 am]

BILLING CODE 3510-22-P